NUCLEAR REGULATORY COMMISSION

Notice of Availability of Model Application Concerning Technical Specification Improvement To Extend the Completion Times for Inoperable Containment Isolation Valves at Combustion Engineering Plants Using the Consolidated Line Item Improvement Process

AGENCY: Nuclear Regulatory Commission.

ACTION: Notice of Availability.

SUMMARY: Notice is hereby given that the staff of the Nuclear Regulatory Commission (NRC) has prepared a model application relating to changes to the completion time in Standard Technical Specifications (STS) 3.6.3, “Containment Isolation Valves (Atmospheric and Dual),” for Combustion Engineering (CE) plants. The change to the Technical Specifications (TSs) would extend to 7 days the completion time to isolate the affected penetration flow path when selected containment isolation valves (CIVs) are inoperable in either a penetration flow path with two CIVs or in a penetration flow path with one CIV in a closed system. These changes are based on Revision 2 of Technical Specification Task Force (TSTF) change traveler TSTF-373, “Increase CIV Completion Time in Accordance with CE-NPSD-1168,” which has been approved for incorporation into the STS for CE plants (NUREG-1432). The purpose of this model is to permit the NRC to efficiently process amendments that propose to modify TSs to extend the completion time for CIVs. Licensees of nuclear power reactors to which the model applies may request amendments using the model application.

DATES: The NRC staff issued a Federal Register Notice (68 FR 64375, November 13, 2003) which provided a model safety evaluation (SE) and a model no significant hazards consideration (NSHC) determination relating to the extension of the completion time for TS actions related to inoperable CIVs at CE plants. The NRC staff hereby announces that the model SE and NSHC determination may be referenced in plant-specific applications to extend the CIV completion times as described in Revision 2 to TSTF-373. The staff has posted a model application on the NRC web site to assist licensees in using the consolidated line item improvement process (CLIIP) to request the subject TS change. The NRC staff can most efficiently consider applications based upon the model application if the application is submitted within a year of this Federal Register Notice.

FOR FURTHER INFORMATION CONTACT: William Reckley, Mail Stop: O-7D1, Division of Licensing Project Management, Office of Nuclear Reactor Regulation, U.S. Nuclear Regulatory Commission, Washington, DC 20555-0001, telephone (301) 415-1323.

SUPPLEMENTARY INFORMATION:

Background

Regulatory Issue Summary 2000-06, “Consolidated Line Item Improvement Process for Adopting Standard Technical Specifications Changes for Power Reactors,” was issued on March 20, 2000. The CLIIP is intended to improve the efficiency of NRC licensing processes. This is accomplished by processing proposed changes to the standard technical specifications (STS) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or to proceed with announcing the availability of the change for proposed adoption by licensees. Those licensees opting to apply for the subject change to TSs are responsible for reviewing the staff's evaluation, referencing the applicable technical justifications, and providing any necessary plant-specific information. Each amendment application made in response to the notice of availability will be processed and noticed in accordance with applicable rules and NRC procedures.

This notice involves the extension of the completion time to isolate the affected penetration flow path when selected CIVs are inoperable in either a penetration flow path with two CIVs or in a penetration flow path with one CIV in a closed system. This change was proposed for incorporation into the STS by the CE Owners Group (CEOG) participants in the TSTF and is designated as Revision 2 to TSTF-373. TSTF-373 is supported by CE-NPSD-1168-A, “Joint Applications Report for Containment Isolation Valve AOT [Allowed Outage Time] Extension,” dated January 2001, accessible electronically from the Agencywide Documents Access and Management System (ADAMS) Public Electronic Reading Room on the Internet (ADAMS Accession Number ML010780257) at the NRC Web site at www@nrc.gov. Persons who do not have access to ADAMS or who encounter problems in accessing the documents located in ADAMS, should contact the NRC Public Document Room reference staff by telephone at 1-800-397-4209, (301) 415-4737, or by e-mail to pdr@nrc.gov.

The CLIIP does not prevent licensees from requesting an alternative approach or proposing the changes without the referencing the model SE and the NSHC. Variations from the approach recommended in this notice may, however, require additional review by the NRC staff and may increase the time and resources needed for the review.

Applicability

This proposed change to revise the TS completion times for selected CIVs is applicable to CE pressurized water reactors.

Public Notices

In a notice in the Federal Register dated November 13, 2003 (68 FR 64375), the NRC staff requested comment on the use of the CLIIP to process requests to extend the completion time for selected inoperable CIVs at CE plants as described in Revision 2 to TSTF-373. TSTF-373, as well as the NRC staff's SE and model application, may be examined, and/or copied for a fee, at the NRC's Public Document Room, located at One White Flint North, Public File Area O-1 F21, 11555 Rockville Pike (first floor), Rockville, Maryland. Publicly available records are accessible electronically from the ADAMS Public Library component on the NRC Web site, (the Electronic Reading Room).

The NRC staff did not receive comments following the notice for comment about the use of the CLIIP for licensees to adopt TSTF-373. As described in the model application prepared by the staff, licensees may reference in their plant-specific applications to adopt this change to TSs, the SE, NSHC determination, and environmental assessment previously published in the Federal Register (68 FR 64375, November 13, 2003).

Dated at Rockville, Maryland, this 10th day of February 2004.
For the Nuclear Regulatory Commission.
Robert A. Gramm,
Chief, Section 1, Project Directorate IV, Division of Licensing Project Management, Office of Nuclear Reactor Regulation.

[FR Doc. 04-3676 Filed 2-19-04; 8:45 am]

BILLING CODE 7590-01-P